DEPARTMENT OF DEFENSE

Department of the Army; Corps of Engineers

Intent To Prepare a Draft Supplemental Environmental Impact Report/Supplemental Environmental Impact Statement for the American River Watershed, California, Folsom Bridge Project, Sacramento County, CA

AGENCY: Department of the Army; U.S. Army Corps of Engineers, DoD.

ACTION: Notice of intent.

SUMMARY: In accordance with the National Environmental Policy Act (NEPA) and the California Environmental Policy Act (CEQA), the U.S. Army Corps of Engineers (Corps), Sacramento District, and City of Folsom (City) are preparing a draft Supplemental Environmental Impact Statement/Supplemental Environmental Impact Report (SEIS/SEIR) to support a project for the construction of a permanent bridge spanning the American River near Folsom Dam, California. The permanent bridge is part of the American River Watershed Project and was authorized by Congress in the energy and Water Development Appropriations Act of 2004 (Pub. L. 108-137). The basic study authority for the American River Watershed study was provided under the Flood Control Act of 1962.

DATES: A public meeting will be held on April 27, 2005, at the Folsom Community Center from 4 p.m. to 6 p.m. and 7 p.m. to 9 p.m.

ADDRESSES: Send written comments and suggestions concerning this study to Ms. Jane Rinck, U.S. Army Corps of Engineers, Sacramento District, Attn: Planning Division (CESPK-PD-R), 1325 J Street, Sacramento, CA 95814. Requests to be placed on the mailing list should also be sent to this address. The public meeting address is Folsom Community Center, 52 Natoma Street, Folsom, CA.

FOR FURTHER INFORMATION CONTACT: Ms. Jane Rinck, email at Jane.L.Rinck@usace.army.mil, telephone (916) 557-6715, or fax (916) 557-7856.

SUPPLEMENTARY INFORMATION: 1. Public Involvement: The Folsom Bridge Project is being coordinated between Federal., State, and local governments; local stake holders; special interest groups; and other interested individuals and organizations. Scoping meetings have been held to discuss the alternatives and effects to be evaluated in the SEIS/SEIR. The process provides an opportunity for the public to identify significant resources in the project area, as well as other issues of concern. To facilitate the process, the Corps and the City held three initial scoping meetings. The first meeting was held on March 9, 2004, in El Dorado Hills. The second meeting was held on March 10, 2004, in Granite Bay, and the third meeting was held on March 11, 2004, in Folsom. An additional public meeting will be held at the Folsom Community Center (see DATES and ADDRESSES). All comments received will be considered in the preparation of the draft SEIS/SEIR.

The Corps will announce availability of the draft supplemental document in the Federal Register and other media, and will provide the public, organizations, and agencies with an opportunity to submit comments, which will be addressed in the final SEIS/SEIR. A 45-day public review period will be provided for individuals and agencies to review and comment on the draft SEIS/SEIR. All interested parties are encouraged to respond to this notice and provide a current address if they wish to be notified of the draft SEIS/SEIR circulation.

2. Project Information: The American River Watershed Project provides a plan for flood protection along the main stem of the American River by modifying levees to increase conveyance capacity, as well as an ecosystem restoration plan at selected sites along the Lower American River. The American River Watershed Project also increases flood control storage at Folsom Reservoir by raising the dam. The project area for the permanent bridge is located within the city limits of Folsom, California, in Sacramento County.

As described in the final Supplemental Plan Formulation Report/EIS/EIR for the American River Watershed, California, Long-Term Study, February 2002, the Corps initially proposed the construction of a 2,400-foot-long temporary bridge downstream of the dam. The temporary bridge would have been provided a detour route across the American River during project-related construction when the Folsom Dam Road would be closed. After completion of the flood protection project, traffic would have been returned to the Folsom Dam Road. At the discretion of the U.S. Bureau of Reclamation (Bureau), the temporary bridge would have been dismantled or left in service to facilitate dam maintenance. However, this temporary bridge was replaced by a permanent bridge per Congressional direction in 2004.

3. Proposed Action: The proposed action is limited to construction of a permanent bridge and associated roadway across the American River in the vicinity of Folsom Dam.

4. Alternatives: The Corps will be evaluating various alignment alternatives for the bridge crossing and associated roadway. During evaluation of the preliminary alternatives, some parts of the alternatives may be modified or changed; some alternatives may be eliminated; and additional alternatives may be added. All alternatives would intersect Folsom Dam Road on the east, cross the areas between the dam and the Folsom State Prison, rise over the American River via the new bridge, and intersect with Folsom-Auburn Road on the west. Some potential alternatives include (1) No Action, (2) Alignment A—North Alignment through Bureau Facilities; (3) Alignment B—Alignment Between Bureau Facilities and Apartments Just South of Alignment A, (4) Alignment C—South Alignment Between the Apartments and Inwood Avenue South of Bureau Facilities.

Dated: March 23, 2005.
Ronald N. Light,
Colonel, Corps of Engineers, District Engineer.

[FR Doc. 05-6486 Filed 3-31-05; 8:45 am]

BILLING CODE 3710-EZ-M